DEPARTMENT OF COMMERCE

National Oceanic and Atmospheric Administration

RIN 0648-XP18

Marine Mammals; File No. 14327

AGENCY: National Marine Fisheries Service (NMFS), National Oceanic and Atmospheric Administration (NOAA), Commerce.

ACTION: Notice; issuance of permit amendment.

SUMMARY: Notice is hereby given that a major amendment to Permit No. 14327 has been issued to the National Marine Fisheries Service's National Marine Mammal Laboratory (NMML), 7600 Sand Point Way, Seattle, WA 98115 [Principal Investigator: Thomas Gelatt, Ph.D.].

ADDRESSES: The permit amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Courtney Smith or Amy Sloan, (301) 427-8401.

SUPPLEMENTARY INFORMATION: On May 16, 2014, notice was published in the Federal Register (79 FR 28488) that a request for an amendment to Permit No. 14327-01 to conduct research on Northern fur seals (Callorhinus ursinus) had been submitted by the above-named applicant. The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Permit No. 14327-01 continues the long term monitoring and assessment of Northern fur seal population and demographic parameters; health and disease trends; and foraging habits and ecology in U.S. waters, including rookeries and haulouts in California and Alaska. Western DPS Steller sea lions (Eumetopias jubatus) and California sea lions (Zalophus californianus) may be harassed annually incidental to the research. This amendment: Adds new methods (using small Unmanned Aerial Systems to conduct aerial surveys) and authorizes associated incidental disturbance; edits methodology (tag resighting observations) and increases associated incidental disturbance; authorizes existing procedures (nasal, vaginal, and fecal swab sampling) for/at other existing projects/locations; authorizes new procedures (ocular swab and vibrissae sampling); adds a new species (harbor seals; Phoca vitulina) and authorizes their disturbance incidental to northern fur seal research activities; and, modifies protocols (tooth extraction, pup production estimates). The amendment expires on August 31, 2019.

In compliance with the National Environmental Policy Act of 1969 (42 U.S.C. 4321 et seq.), an initial determination has been made that the effects of the activities proposed are consistent with the Preferred Alternative in the Final Programmatic Environmental Impact Statement for Steller Sea Lion and Northern Fur Seal Research (PEIS; NMFS 2007) and that issuance of the requested permit amendment would not have a significant adverse impact on the human environment.

An additional environmental assessment (EA) analyzing the effects of sUAS, which were not considered in the initial PEIS, on the human environment was prepared in compliance with the National Environmental Policy Act of 1969 (42 U.S.C. 4321 et seq.). Based on the analyses in the EA for Issuance of Permits to take Steller Sea Lions by Harassment During Surveys Using Unmanned Aerial Systems, NMFS determined that issuance of the permit would not significantly impact the quality of the human environment and that preparation of an environmental impact statement was not required. That determination is documented in a Finding of No Significant Impact (FONSI), signed on June 17, 2014.

As required by the ESA, issuance of this permit was based on a finding that such permit: (1) Was applied for in good faith; (2) will not operate to the disadvantage of such endangered species; and (3) is consistent with the purposes and policies set forth in section 2 of the ESA.

Dated: August 27, 2014.
Julia Harrison,
Chief, Permits and Conservation Division, Office of Protected Resources, National Marine Fisheries Service.

[FR Doc. 2014-20727 Filed 8-29-14; 8:45 am]

BILLING CODE 3510-22-P